EXPORT-IMPORT BANK

[Public Notice: 2021-3041]

Privacy Act of 1974; System of Records

AGENCY: Export-Import Bank of the United States.

ACTION: Notice of new system of records.

SUMMARY: Pursuant to the Privacy Act of 1974 the Export-Import Bank of the United States (EXIM) is proposing a new system of records notice (SORN). EXIM is proposing EXIM 21-02 Reasonable Accommodation Records. This new SORN will include the authorities for maintenance of the system, the purposes of the system, the categories of individuals covered by the system, the record source categories, and the records contained in the system, to include records of requests for accommodation based on physical and mental disabilities and sincerely held religious beliefs, practices, or observances.

DATES: The system of records described herein will become effective December 16, 2021.

ADDRESSES: You may submit written comments to EXIM by any of the following methods:

• Federal eRulemaking Portal: http://www.regulations.gov. Follow the website instructions for submitting comments.

• Mail or Hand Delivery: Office of Information and Privacy, Export-Import Bank of the United States, 811 Vermont Avenue NW, Washington, DC 20571.

Commenters are strongly encouraged to submit public comments electronically. EXIM expects to have limited personnel available to process public comments that are submitted on paper through mail. Until further notice, any comments submitted on paper will be considered to the extent practicable.

All submissions must include the agency's name (Export-Import Bank of the United States, or EXIM) and reference this notice. Comments received will be posted without change to EXIM's website, http://www.exim.gov, including any personal information provided. Do not submit comments that include any personally identifiable information or confidential business information. Copies of comments may also be obtained by writing to Nakia Burton, Export-Import Bank of the United States, 811 Vermont Avenue NW, Washington, DC 20571.

FOR FURTHER INFORMATION CONTACT: Howard Spira, Chief Privacy Officer, Export-Import Bank of the United States, Office of Information and Privacy, 811 Vermont Avenue NW, Washington, DC 20571, 202-565-3844. For access to any of the EXIM's systems of records, contact Bassam Doughman, Records Management Officer, Office of Information and Privacy, 811 Vermont Avenue NW, Washington, DC 20571, or by calling 202-565-3168, or go to Privacy Act System of Records Notice (exim.gov).

SUPPLEMENTARY INFORMATION: EXIM is proposing to include the authorities for maintenance of the system, purposes of the system, the categories of records contained in the system, the categories of individuals covered by the system, the record source categories, a citation in the Routine Uses section, a citation in the Record Access Procedures section, and a citation in the Contesting Records Procedures section of EXIM—21-03—Reasonable Accommodation Records.

EXIM is including the Authority for Maintenance of the System by including citations to “42 U.S.C. 2000e et seq., 42 U.S.C. 2000bb et seq.” and including Chapter 21 from Title 42 of the United States Code and Parts 1605 and 1614 from Title 29 of the Code of Federal Regulations. EXIM is including the purposes of the system that allows EXIM to maintain records on individuals who requested or received reasonable accommodation by EXIM because of religious beliefs. EXIM is describing the Categories of Records Contained in the System to include information concerning the individual's physical and/or mental disabilities and/or religious belief. EXIM is defining the Categories of Individuals Covered by the System by including the words “physical and/or mental disabilities, and/or religious belief, practice or observance” to include accommodation requests based on physical and/or mental disabilities and/or sincerely held religious beliefs and including “equal employment opportunity professionals” to Record Source Categories. EXIM is also including the citation to 29 CFR 4902.5 to the Contesting Records Procedures section.

A report will be sent to Congress and the Office of Management and Budget for their evaluation.

For the convenience of the public, EXIM's new system of records is published in full below.

Issued in Washington, DC.
Howard Spira,
Senior Vice President, Office of Information and Privacy, Export-Import Bank of the United States.

SYSTEM NAME AND NUMBER:

EXIM—XX: Reasonable Accommodation Records.

SECURITY CLASSIFICATION:

Unclassified.

SYSTEM LOCATION:

Export-Import Bank of the United States, 811 Vermont Avenue NW, Washington, DC 20571. (Records may be kept at an additional location as backup for continuity of operations.)

SYSTEM MANAGER(S) AND ADDRESS:

Reasonable Accommodations Coordinator, Office of Human Capital, EXIM, 811 Vermont Avenue NW, Washington, DC 20571.

AUTHORITY FOR MAINTENANCE OF THE SYSTEM:

29 U.S.C. 1302; 44 U.S.C. 3101; 5 U.S.C. 301; 29 U.S.C. 701 et seq.; 29 U.S.C. 791; 42 U.S.C. 12101 et seq.; 42 U.S.C. 2000e et seq.; 42 U.S.C. 2000bb; 42 U.S.C. Ch. 21, 126; 29 CFR parts 1605, 1614, 1630; Executive Order 13164 (July 26, 2000); and Executive Order 13548 (July 26, 2010).

PURPOSE(S) OF THE SYSTEM:

The purposes of this system are: (1) To allow EXIM to collect and maintain records on applicants, current, and former employees and other individuals who participate in EXIM programs or activities with physical and/or mental disabilities, and/or sincerely held religious beliefs, practices, or observances who request and/or receive reasonable accommodation by EXIM; (2) to track and report the processing of requests for reasonable accommodation EXIM-wide to comply with applicable law and regulations; and (3) to maintain the confidentiality of medical and/or religious information submitted by or on behalf of applicants or employees requesting reasonable accommodation.

CATEGORIES OF INDIVIDUALS COVERED BY THE SYSTEM:

Applicants, current, and former employees of EXIM and visitors to Federal buildings who request and/or receive a reasonable accommodation or appropriate modifications from EXIM for a physical and/or mental disability, and/or religious belief, practice, or observance; Authorized individuals or representatives (e.g., family members, union representatives, or attorneys) who submit a request for a reasonable accommodation on behalf of an applicant, current, or former employee.

CATEGORIES OF RECORDS IN THE SYSTEM:

Name and employment information of applicants and employees requesting and granted or denied an accommodation; the requester's name and contact information (if different than the applicant or employee who needs an accommodation); date request was initiated; information concerning the nature of the disability or religious belief, practice, or observance and the need for accommodation, including appropriate medical or other documentation; occupational series; pay grade; requester's statement of a sincerely held religious belief and any additional information provided concerning that religious belief and the need for an accommodation to exercise that belief; essential functions of the position; details of the accommodation request, such as: Type of accommodation requested, how the requested accommodation would assist in job or allow job performance while accommodating the disability or religious belief, practice, or observance, the sources of technical assistance consulted in trying to identify alternative reasonable accommodation, any additional information provided by the requester relating to the processing of the request, whether the request was approved or denied, whether the accommodation was approved for a trial period; and, documentation between the applicant and EXIM, employee and his/her supervisor(s) regarding the accommodation.

RECORD SOURCE CATEGORIES:

Subject individuals or individual making the request (if different than the subject individuals); medical and equal employment opportunity professionals directly or indirectly from an individual's medical provider or another medical professional who evaluates the request, directly or indirectly from an individual's religious or spiritual advisors or institutions; and the subject individuals' supervisor(s).

ROUTINE USES OF RECORDS MAINTAINED IN THE SYSTEM, INCLUDING CATEGORIES OF USERS AND THE PURPOSES OF SUCH USES:

In addition to those disclosures generally permitted under 5 U.S.C. 552a(b) of the Privacy Act, all or a portion of the records or information contained in this system may be disclosed outside EXIM as a routine use pursuant to 5 U.S.C. 552a(b)(3) as follows:

a. To the Department of Justice, including Offices of the U.S. Attorneys; another Federal agency conducting litigation or in proceedings before any court, adjudicative, or administrative body; another party in litigation before a court, adjudicative, or administrative body; or to a court, adjudicative, or administrative body. Such disclosure is permitted only when it is relevant or necessary to the litigation or proceeding, and one of the following is a party to the litigation or has an interest in such litigation:

(1) EXIM, or any component thereof;

(2) Any employee or former employee of EXIM in his or her official capacity;

(3) Any employee or former employee of EXIM in his or her capacity where the Department of Justice or EXIM has agreed to represent the employee;

(4) The United States, a Federal agency, or another party in litigation before a court, adjudicative, or administrative body, upon EXIM General Counsel's approval, pursuant to 5 CFR part 295 or otherwise.

b. To the appropriate Federal, State, or local agency responsible for investigating, prosecuting, enforcing, or implementing a statute, rule, regulation, or order, when a record, either on its face or in conjunction with other information, indicates or is relevant to a violation or potential violation of civil or criminal law or regulation.

c. To a member of Congress from the record of an individual in response to an inquiry made at the request of the individual to whom the record pertains.

d. To the National Archives and Records Administration (NARA) for records management inspections being conducted under the authority of 44 U.S.C. 2904 and 2906.

e. To appropriate agencies, entities, and persons when (1) EXIM suspects or has confirmed that there has been a breach of the system of records; (2) EXIM has determined that as a result of the suspected or confirmed breach, there is a risk of harm to individuals, EXIM (including its information systems, programs, and operations), the Federal Government, or national security; and (3) the disclosure made to such agencies, entities, and persons is reasonably necessary to assist in connection with EXIM's efforts to respond to the suspected or confirmed breach or to prevent, minimize, or remedy such harm.

f. To another Federal agency or Federal entity, when EXIM determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

g. To contractors, grantees, experts, consultants, or volunteers performing or working on a contract, service, grant, cooperative agreement, or other assignment for EXIM when EXIM determines that it is necessary to accomplish an agency function related to this system of records. Individuals provided information under this routine use are subject to the same Privacy Act requirements and limitations on disclosure as are applicable to EXIM employees.

h. To another federal agency or commission with responsibility for labor or employment relations or other issues, including equal employment opportunity and reasonable accommodation issues, when that agency or commission has jurisdiction over reasonable accommodation.

i. To an authorized appeal grievance examiner, formal complaints examiner, administrative judge, equal employment opportunity investigator, arbitrator, or other duly authorized official engages in investigation or settlement of a grievance, complaint, or appeal filed by an individual who requested a reasonable accommodation or other appropriate modification.

j. To another Federal agency, including but not limited to the Equal Employment Opportunity Commission and the Office of Special Counsel to obtain advice regarding statutory, regulatory, policy, and other requirements related to reasonable accommodation.

k. To a Federal agency or entity authorized to procure assistive technologies and services in response to a request for reasonable accommodation.

l. To first aid and safety personnel if the individual's medical condition requires emergency treatment.

m. To another Federal agency or oversight body charged with evaluating EXIM's compliance with the laws, regulations, and policies governing reasonable accommodation requests.

n. To another Federal agency pursuant to a written agreement with EXIM to provide services (such as medical evaluations), when necessary, in support of reasonable accommodation decisions.

POLICIES AND PRACTICES FOR STORAGE OF RECORDS:

Records are maintained manually in paper and/or electronic form (including computer databases or discs). Records may also be maintained on back-up tapes, or on an EXIM or a contractor- hosted network.

POLICIES AND PRACTICES FOR RETRIEVAL OF RECORDS:

Records are retrieved by any one or more of the following: Applicant or employee name or assigned case number.

POLICIES AND PRACTICES FOR RETENTION AND DISPOSAL OF RECORDS:

Records are maintained and destroyed in accordance with the National Archives and Record Administration's (NARA) Basic Laws and Authorities (44 U.S.C. 3301, et seq.) or a EXIM records disposition schedule approved by NARA. Records existing on paper are destroyed beyond recognition.

ADMINISTRATIVE, TECHNICAL, AND PHYSICAL SAFEGUARDS:

EXIM has established security and privacy protocols that meet the required security and privacy standards issued by the National Institute of Standards and Technology (NIST). Records are maintained in a secure, password protected electronic system that utilizes security hardware and software to include multiple firewalls, active intruder detection, and role-based access controls. EXIM has adopted appropriate administrative, technical, and physical controls in accordance with EXIM's security program to protect the confidentiality, integrity, and availability of the information, and to ensure that records are not disclosed to or accessed by unauthorized individuals.

Electronic records are stored on computer networks, which may include cloud-based systems, and protected by controlled access with Personal Identity Verification (PIV) cards, assigning user accounts to individuals needing access to the records and by passwords set by authorized users that must be changed periodically.

RECORD ACCESS PROCEDURES:

Individuals, or third parties with written authorization from the individual, wishing to request access to their records in accordance with 12 CFR 404.14 or to amend records pertaining to themselves in accordance with 2912 CFR 404.18, should submit a written request to the Freedom of Information and Privacy Act Office, EXIM, 811 Vermont Avenue NW, Washington, DC 20571, providing their name, address, date of birth, and verification of their identity in accordance with 12 § 1404.14(d & e).

CONTESTING RECORD PROCEDURES:

Individuals, or third parties with written authorization from the individual, wishing to amend their records, in accordance with 12 CFR 1404.18 must submit a written request identifying the information they wish to correct in their file, in addition to following the requirements of the Record Access Procedure above.

NOTIFICATION PROCEDURES:

Individuals, or third parties with written authorization from the individual, wishing to learn whether this system of records contains information about them should submit a written request to the Freedom of Information and Privacy Act Office, EXIM, 811 Vermont Avenue NW, Washington, DC 20571, providing their name, address, date of birth, and verification of their identity in accordance with 29 CFR 4902.3(c).

EXEMPTIONS PROMULGATED FOR THE SYSTEM:

None.

HISTORY:

None.

Bassam Doughman,
IT Specialist.

[FR Doc. 2021-24924 Filed 11-15-21; 8:45 am]

BILLING CODE 6690-01-P